DEPARTMENT OF STATE

[Public Notice 5069]

Announcement of Meetings of the International Telecommunication Advisory Committee

Summary: The Department of State announces meetings of the U.S. International Telecommunication Advisory Committee (ITAC). The purpose of the Committee is to advise the Department on policy and technical issues with respect to the International Telecommunication Union (ITU). The purpose of these meetings is to prepare for the Americas Regional Preparatory Meeting for the World Telecommunication Development Conference (WTDC-06), which will take place in Lima, Peru from August 9-11, 2005.

An ITAC meeting will be held on Thursday, July 7, 2005, at the State Department from 10 am to 12 pm to begin preparations for the meeting of the Americas Regional Preparatory Meeting for the ITU World Telecommunication Development Conference. Four additional meetings are scheduled to prepare for this Regional Preparatory Meeting on July 14, July 21, July 28 and August 4; all will be held from 10 am to 12 pm at the Department of State in Room 2533A.

Members of the public may attend these meetings and are welcome to participate in the discussions, subject to the discretion of the Chair. Directions to meeting location may be determined by calling the ITAC Secretariat at (202) 647-2592. Entrance to the State Department is controlled; in order to get precleared for each meeting, people planning to attend should send an email to Nettie McCorkle at mccorklend@state.gov no later than 48 hours before the meeting. This email should include the name of the meeting and date of meeting, your name, social security number, date of birth, and organizational affiliation. One of the following valid photo identifications will be required for admission to the State Department : U.S. driver's license, passport, U. S. Government identification card. Enter the Department of State from the C Street lobby; in view of escorting requirements, non-Government attendees should plan to arrive not less than 15 minutes before the meeting begins.

Dated: June 16, 2005.
Anne Jillson,
Foreign Affairs Officer, International Communications and Information Policy, Bureau of Economic and Business Affairs, Department of State.

[FR Doc. 05-12338 Filed 6-21-05; 8:45 am]

BILLING CODE 4710-07-P